DEPARTMENT OF HEALTH AND HUMAN SERVICES

Justification for a Single Source Cooperative Agreement Award for the National Academy of Science

AGENCY: Office of the Assistant Secretary for Preparedness and Response, Department of Health and Human Services.

ACTION: Notice.

SUMMARY: The Department of Health and Human Services (HHS) Office of the Assistant Secretary for Preparedness and Response (ASPR) intends to provide a Single Source Cooperative Agreement Award to the National Academy of Science to establish a rapid and agile process for convening subject matter experts to address adverse health effects of public health emergencies and disasters when they occur. The goal of the process will be to prioritize scientific research needs in the immediate aftermath of a disaster that culminates in a summary report of the strategic science research questions most relevant to promote better response, recovery or enhanced resilience in the affect community. Research results would also inform response to the next disaster event. Subject matter expertise would vary, depending on the nature of the emergency/disaster. This could include experts with background in public health, epidemiology, environmental health, emergency management, first response, emergency medicine, infectious diseases, nursing, emergency management, bioethics, medical countermeasures, state and local government, operations research national civic organizations, and risk communication. The process convened by the Institute of Medicine (IOM) would also provide a connection to the local communities affected by the disaster, and include important stakeholders, such as non-government funders or other organizations. This cooperative Agreement will support ASPR's Government Performance and Results Act goals that “HHS will work with its Federal, state, local, tribal, and international partners to build community resilience and strengthen health and emergency response systems. Robust systems are essential to a secure and resilient. Nation with required capabilities to prevent, protect against, mitigate, respond to, and recover from the threats and hazards that pose the greatest risk. This includes strengthening the Federal medical and public health response capability”. Scientific research involved with preparedness and response is a key component of this endeavor.

DATES: Period of Performance: September 30, 2014 to September 29, 2015.

FOR FURTHER INFORMATION CONTACT: Please submit an inquiry via the ASPR Division of Grants Management at asprgrants@hhs.gov.

SUPPLEMENTARY INFORMATION: Pursuant to Sections 301. The Office of Policy and Planning is the program office for this award.

Justification: IOM is a nonprofit organization and is part of the National Academy of Sciences. IOM undertakes studies that may be specific mandates from Congress or requested by federal agencies and independent organizations.

IOM has an established Forum on Medical and Public Health Preparedness for Catastrophic Events. The Forum held a panel on Long-term Recovery of the Healthcare Service Delivery Infrastructure in February 2012 during the 2012 Public Health Preparedness Summit in Anaheim, California. The Forum's purpose is to foster dialogue among stakeholders, identify opportunities for public/private collaboration, and identify and address issues relevant to public health and medical preparedness. IOM is part of the National Academies, which also has an established Disasters Roundtable. The Disasters Roundtable holds workshops three times per year on topics often relevant to recovery partners. IOM is uniquely positioned to be able to not only identify relevant partners and stakeholders but also garner their participation in the proposed activities because of their existing structures and established reputation.

Procedures for Providing Public Input: All written comments must be 15 days after posting of this announcement. Please submit comments at asprgrants@hhs.gov.

Dated: August 13, 2014.
Nicole Lurie,
Assistant Secretary for Preparedness and Response.

[FR Doc. 2014-19737 Filed 8-19-14; 8:45 am]

BILLING CODE 4150-37-P